DEPARTMENT OF THE INTERIOR

National Park Service

[NPS-WASO-NAGPRA-NPS0032395; PPWOCRADN0-PCU00RP14.R50000]

Notice of Inventory Completion: Peabody Museum of Archaeology and Ethnology, Harvard University, Cambridge, MA; Correction

AGENCY: National Park Service, Interior.

ACTION: Notice; correction.

SUMMARY: The Peabody Museum of Archaeology and Ethnology, Harvard University has corrected an inventory of human remains and associated funerary objects published in a Notice of Inventory Completion in the Federal Register on July 30, 2007. This notice corrects the minimum number of individuals and number of associated funerary objects. Lineal descendants or representatives of any Indian Tribe or Native Hawaiian organization not identified in this notice that wish to request transfer of control of these human remains and associated funerary objects should submit a written request to the Peabody Museum of Archaeology and Ethnology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Peabody Museum of Archaeology and Ethnology at the address in this notice by September 10, 2021.

FOR FURTHER INFORMATION CONTACT: Patricia Capone, Peabody Museum of Archaeology and Ethnology, Harvard University, 11 Divinity Avenue, Cambridge, MA 02138, telephone (617) 496-3702, email pcapone@fas.harvard.edu.

SUPPLEMENTARY INFORMATION: Notice is here given in accordance with the Native American Graves Protection and Repatriation Act (NAGPRA), 25 U.S.C. 3003, of the correction of an inventory of human remains and associated funerary objects under the control of the Peabody Museum of Archaeology and Ethnology, Harvard University, Cambridge, MA. The human remains and associated funerary objects were removed from Burlington, Gloucester, and Mercer Counties, NJ, and Chester County, PA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (72 FR 41524-41525, July 30, 2007). [The cultural affiliation determinations made in this Notice of Inventory Completion were subsequently corrected in the Federal Register (73 FR 58625-58626, October 7, 2008, and 77 FR 46120-46121, August 2, 2012)]. Following further consultation and inventory review with the Delaware Nation, Oklahoma; Delaware Tribe of Indians; and the Stockbridge Munsee Community, Wisconsin, the Peabody Museum of Archaeology and Ethnology has determined that the minimum number of individuals should be increased by 17 and the number of associated funerary objects should be increased by the addition of two previously unidentified associated funerary objects and four associated funerary objects for which cultural affiliation has now been established. Transfer of control of the items in this correction notice has not occurred.

Correction

In the Federal Register (72 FR 41524, July 30, 2007), column 3, paragraph 1 is corrected by substituting the following paragraph:

In 1879, human remains representing a minimum of two individuals were recovered from an unknown location in Burlington County, NJ, by Michael Newbold during a Peabody Museum of Archaeology and Ethnology expedition led by C.C. Abbott. No known individuals were identified. No associated funerary objects are present.

In the Federal Register (72 FR 41524, July 30, 2007), column 3, paragraph 2, sentence 1 is corrected by substituting the following sentence:

Osteological characteristics indicate that these individuals are Native American.

In the Federal Register (72 FR 41524, July 30, 2007), column 3, paragraph 5 is corrected by substituting the following paragraph:

On October 2, 1894, human remains representing a minimum of 12 individuals were recovered from the Lalor Field site in Trenton, Mercer County, NJ, by Ernest Volk during a Peabody Museum of Archaeology and Ethnology expedition led by Mr. Volk. No known individuals were identified. The six associated funerary objects are one animal mandible with teeth, one notched stone, three stone implements, and one stone gorget. The animal mandible with teeth, notched stone, and stone implements were accessioned into the museum's collection in 1952 and the stone gorget was accessioned into the museum's collection in 1895.

In the Federal Register (72 FR 41525, July 30, 2007), column 1, paragraph 1, sentence 3 is corrected by substituting the following sentence:

The polished stone gorget associated with the human remains, as well as artifacts recovered from the grave fill but not associated with the human remains, including lithic flakes and ceramic sherds, support this date.

In the Federal Register (72 FR 41525, July 30, 2007), column 1, paragraph 2 is corrected by substituting the following paragraph:

Between 1894 and 1895, human remains representing a minimum of four individuals were recovered from the Lalor Field site in Trenton, Mercer County, NJ, by Ernest Volk during a Peabody Museum of Archaeology and Ethnology expedition led by Mr. Volk. No known individuals were identified. No associated funerary objects are present.

In the Federal Register (72 FR 41525, July 30, 2007), column 1, paragraph 3, sentence 3 is corrected by substituting the following sentence:

The lack of known burials predating the Middle Woodland Period in the area of Lalor Field excavated in 1894-1895, the artifacts recovered from the grave fill but not associated with the human remains, including lithic flakes, bifacial implements and fragments, and ceramic sherds, the positioning of the deceased, and the lack of associated funerary objects support this date.

In the Federal Register (72 FR 41525, July 30, 2007), column 1, paragraph 5, the following paragraphs are added at the end of paragraph 5:

In 1894, human remains representing a minimum of seven individuals were likely recovered from the Lalor Field site in Trenton, Mercer County, NJ, by Ernest Volk during a Peabody Museum of Archaeology and Ethnology expedition led by Mr. Volk. No known individuals were identified. No associated funerary objects are present.

Osteological characteristics indicate that these individuals are Native American. The interments most likely date to the Middle to Late Woodland periods (A.D. 0—1500). The lack of known burials predating the Middle Woodland Period in the area of Lalor Field excavated in 1894-1895 supports this date. Archeological evidence, museum documentation, and oral histories indicate that the human remains are from an area considered to be part of the aboriginal homelands and traditional burial areas of the Delaware people.

Between 1894 and 1895, human remains representing a minimum of one individual were recovered from either the Lalor Field site or the Lowland site in Trenton, Mercer County, NJ, by Ernest Volk during a Peabody Museum of Archaeology and Ethnology expedition led by Mr. Volk. No known individuals were identified. No associated funerary objects are present.

Osteological characteristics indicate that this individual is Native American. The interment most likely dates to the Middle to Late Woodland periods (A.D. 0—1500). The lack of known burials predating the Middle Woodland Period in the area of Lalor Field excavated in 1894-1895 or in the area of the Lowland site excavated in 1895 supports this date. Archeological evidence, museum documentation, and oral histories indicate that the human remains are from an area considered to be part of the aboriginal homelands and traditional burial areas of the Delaware people.

In 1909, human remains representing a minimum of one individual were likely recovered from the A.K. Rowan Farm site in Trenton, Mercer County, NJ, by Ernest Volk during a Peabody Museum of Archaeology and Ethnology expedition led by Mr. Volk. No known individuals were identified. No associated funerary objects are present.

Osteological characteristics indicate that this individual is Native American. The interment most likely dates to the Late Woodland or Contact Periods (900-1700 A.D.). The lack of known burials likely predating the Late Woodland Period in the area of the A.K. Rowan Farm site excavated in 1909, associated funerary objects in known burial contexts from 1909 at the A.K. Rowan Farm site, stratigraphic context and burial positioning, and artifacts recovered from the grave fill but not associated with human remains support this date. Archeological evidence, museum documentation, and oral histories indicate that the human remains are from an area considered to be part of the aboriginal homelands and traditional burial areas of the Delaware people.

Between 1886 and 1887, human remains representing a minimum of three individuals were recovered from an “Indian Burial Ground” on Lalor Farm in Trenton, Mercer County, NJ, by C.C. Abbott during a Peabody Museum of Archaeology and Ethnology expedition led by Dr. Abbott. No known individuals were identified. The associated funerary objects are two dog teeth and one dog jaw. The dog jaw is not in the possession or control of the Peabody Museum of Archaeology and Ethnology.

Osteological characteristics indicate that this individual is Native American. The interment most likely dates to the Late Woodland Period (900-1500 A.D.). Dog burials occur throughout the northeastern United States from the Late Archaic through Contact Periods (B.C. 4000-1600 A.D.) both independently and accompanying human burials. In the Delaware Valley and other areas historically inhabited by the Delaware people, dog burials in association with human remains are most frequent in the Late Woodland Period. The placement of the remains of a dog with the three individuals in this burial supports this date. Archeological evidence, museum documentation, and oral histories indicate that the human remains are from an area considered to be part of the aboriginal homelands and traditional burial areas of the Delaware people.

Between 1892 and 1894, human remains representing a minimum of one individual were recovered from the Dutch Trader's House site on Burlington Island in Burlington, Burlington County, New Jersey, by C.C. Abbott. No known individuals were identified. The four associated funerary objects are one cattle bone and three fragments of white-tailed deer bones.

Osteological characteristics indicate that this individual is Native American. This interment most likely dates to the Contact or Historic period (post-A.D. 1500) and the associated funerary objects recovered with the human remains support this date. Archeological evidence, museum documentation, and oral histories indicate that the human remains are from an area considered to be part of the aboriginal homelands and traditional burial areas of the Delaware people.

In the Federal Register (72 FR 41525, July 30, 2007), column 2, paragraph 1, sentences 1 and 2 are corrected by substituting the following sentences:

Officials of the Peabody Museum of Archaeology and Ethnology, Harvard University have determined that:

• Pursuant to 25 U.S.C. 3001(9), the human remains described in this notice represent the physical remains of 36 individuals of Native American ancestry.

• Pursuant to 25 U.S.C. 3001(3)(A), the 22 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Patricia Capone, Peabody Museum of Archaeology and Ethnology, Harvard University, 11 Divinity Avenue, Cambridge, MA 02138, telephone (617) 496-3702, email pcapone@fas.harvard.edu, by September 10, 2021. After that date, if no additional requestors have come forward, transfer of control of the human remains and associated funerary objects to the Delaware Nation, Oklahoma; Delaware Tribe of Indians; and the Stockbridge Munsee Community, Wisconsin may proceed.

The Peabody Museum of Archaeology and Ethnology, Harvard University is responsible for notifying the Delaware Nation, Oklahoma; Delaware Tribe of Indians; and the Stockbridge Munsee Community, Wisconsin that this notice has been published.

Dated: July 28, 2021.
Melanie O'Brien,
Manager, National NAGPRA Program.

[FR Doc. 2021-17064 Filed 8-10-21; 8:45 am]

BILLING CODE 4312-52-P